DEPARTMENT OF THE INTERIOR

Bureau of Indian Affairs

[212A2100DD/AAKC001030/A0A51010.999900]

Land Acquisitions; Torres Martinez Desert Cahuilla Indians, California

AGENCY: Bureau of Indian Affairs, Interior.

ACTION: Notice.

SUMMARY: The Assistant Secretary—Indian Affairs has made a final determination to acquire 195.54 acres, more or less, into trust for The Torres Martinez Desert Cahuilla Indians, California.

DATES: This final determination was made on December 7, 2020.

FOR FURTHER INFORMATION CONTACT: Ms. Sharlene M. Round Face, Bureau of Indian Affairs, Division of Real Estate Services, 1001 Indian School Road NW, Albuquerque, NM 87104, telephone (505) 563-3132.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On the date listed in the DATES section of this notice, the Assistant Secretary—Indian Affairs issued a decision to accept land in trust for the Torres Martinez Desert Cahuilla Indians, California under the authority of Section 5 of the Indian Reorganization Act of 1934 (48 Stat. 984) pursuant to the mandatory provisions of the Torres-Martinez Desert Cahuilla Indians Claims Settlement Act contained in Title VI of the Omnibus Indian Advancement Act, Public Law 106-568, 114 Stat. 2868, enacted December 27, 2000.

Torres Martinez Desert Cahuilla Indians, California

Mecca Ranch Property

ALL THAT CERTAIN REAL PROPERTY IN THE COUNTY OF RIVERSIDE, STATE OF CALIFORNIA, DESCRIBED AS FOLLOWS:

PARCEL A: APN 729-040-003 & 729-040-004

THE WEST HALF OF THE NORTHEAST QUARTER AND THE EAST HALF OF THE EAST HALF OF THE NORTHWEST QUARTER OF SECTION 20, TOWNSHIP 7 SOUTH, RANGE 9 EAST, SAN BERNARDINO MERIDIAN, ACCORDING TO THE OFFICIAL PLAT THEREOF.

PARCEL B: APN 729-040-005-5

THAT PORTION OF THE EAST HALF OF THE NORTHEAST QUARTER OF SECTION 20, TOWNSHIP 7 SOUTH, RANGE 9 EAST, SAN BERNARDINO MERIDIAN, ACCORDING TO THE OFFICIAL PLAT THEREOF, DESCRIBED AS FOLLOWS:

BEGINNING AT THE NORTHEAST CORNER OF SECTION 20, TOWNSHIP 7 SOUTH, RANGE 9 EAST, SAN BERNARDINO BASE AND MERIDIAN; THENCE SOUTH 0°50′40″ EAST, ALONG THE EAST LINE OF SAID SECTION 20, A DISTANCE OF 59.33 FEET TO THE SOUTHWEST LINE OF THE RIGHT OF WAY OF THE SOUTHERN PACIFIC RAILROAD TO THE TRUE POINT OF BEGINNING;

THENCE CONTINUING ALONG THE EAST LINE OF SECTION 20, SOUTH 0°50′40″ EAST, A DISTANCE OF 114.72 FEET TO A POINT IN THE NORTH RIGHT OF WAY LINE OF STATE HIGHWAY NO. 111;

THENCE NORTH 61°30′15″ WEST, ALONG THE NORTH RIGHT OF WAY LINE OF SAID STATE HIGHWAY, A DISTANCE OF 365.10 FEET TO THE NORTH LINE OF SAID SECTION 20;

THENCE SOUTH 89° 58” 19” EAST, ALONG THE NORTH LINE OF SECTION 20, A DISTANCE OF 209.79 FEET TO THE SOUTHWEST LINE OF THE RIGHT OF WAY OF THE SOUTHERN PACIFIC RAILROAD;

THENCE SOUTH 61°30′15″ EAST ALONG SAID RIGHT OF WAY LINE, A DISTANCE OF 124.45 FEET TO THE TRUE POINT OF BEGINNING.

EXCEPTING THEREFROM THE NORTH 30 FEET AND THE EAST 30 FEET THEREOF.

ALSO EXCEPTING THEREFROM ALL MINERALS, OIL, GAS AND OTHER HYDROCARBONS, AND ALL OTHER SUBSTANCES PRODUCED THEREWITH, AND RIGHTS PERTAINING THERETO, IN, ON, UNDER, OR THAT MAY BE PRODUCED FROM SAID LAND, AS RESERVED BY DANTE A. GAIIANIGA AND ALICE M. GAIIANIGA, AS TRUSTEES UNDER THAT CERTAIN DECLARATION OF TRUST, DATED DECEMBER 6, 1971, IN THE DEED RECORDED MARCH 24, 1976 AS INSTRUMENT NO. 38365 OF OFFICIAL RECORDS OF RIVERSIDE COUNTY, CALIFORNIA.

PARCEL C: APN 729-040-006-6

THE EAST HALF OF THE NORTHEAST QUARTER OF SECTION 20, TOWNSHIP 7 SOUTH, RANGE 9 EAST, SAN BERNARDINO MERIDIAN, ACCORDING TO THE OFFICIAL PLAT THEREOF.

EXCEPTING THEREFROM THAT PORTION INCLUDED IN THE RIGHT-OF-WAY OF THE SOUTHERN PACIFIC RAILROAD COMPANY.

ALSO EXCEPTING THEREFROM THOSE PORTIONS CONVEYED TO THE STATE OF CALIFORNIA BY DEED RECORDED MARCH 9, 1948 IN BOOK 894, PAGE 456 OF OFFICIAL RECORDS OF RIVERSIDE COUNTY, CALIFORNIA.

ALSO EXCEPTING THEREFROM THAT PORTION CONVEYED TO COACHELLA VALLEY COUNTY WATER DISTRICT BY DEED RECORDED JULY 2, 1949 IN BOOK 1089, PAGE 363 OF OFFICIAL RECORDS.

ALSO EXCEPTING THEREFROM THE NORTH 30 FEET AND THE EAST 30 FEET THEREOF.

ALSO EXCEPTING THEREFROM THE WEST 90, FEET OF THE EAST 150 FEET OF THE SOUTH 1278.18 FEET AS CONVEYED TO THE COACHELLA VALLEY COUNTY WATER DISTRICT, A PUBLIC AGENCY OF THE STATE OF CALIFORNIA, AS SET FORTH AND DESCRIBED IN THAT CERTAIN DOCUMENT RECORDED JUNE 9, 1958 IN BOOK 2282, PAGE 595 OF OFFICIAL RECORDS.

ALSO EXCEPTING THEREFROM THAT PORTION THEREOF DESCRIBED AS FOLLOWS:

BEGINNING AT THE NORTHEAST CORNER OF SECTION NORTH 20, TOWNSHIP 7 SOUTH, RANGE 9 EAST, SAN BERNARDINO BASE AND MERIDIAN;

THENCE SOUTH 0°50′40″ EAST, ALONG THE EAST LINE OF SAID SECTION 20, A DISTANCE OF 59.33 FEET TO THE SOUTHWEST LINE OF THE RIGHT OF WAY OF THE SOUTHERN PACIFIC RAILROAD TO THE TRUE POINT OF BEGINNING;

THENCE CONTINUING ALONG THE EAST LINE OF SECTION 20, SOUTH 0°50′40″ EAST, A DISTANCE OF 114.72 FEET TO A POINT IN THE NORTH RIGHT OF WAY LINE OF STATE HIGHWAY NO. 111;

THENCE NORTH 61°30′15″ WEST, ALONG THE NORTH RIGHT OF WAY LINE OF SAID STATE HIGHWAY, A DISTANCE OF 365.10 FEET TO THE NORTH LINE OF SAID SECTION 20;

THENCE SOUTH 89°58′19″ EAST, ALONG THE NORTH LINE OF SECTION 20, A DISTANCE OF 209.79 FEET TO THE SOUTHWEST LINE OF THE RIGHT OF WAY OF THE SOUTHERN PACIFIC RAILROAD;

THENCE SOUTH 61°30′15″ EAST ALONG SAID RIGHT OF WAY LINE, A DISTANCE OF 124.45 FEET TO THE TRUE POINT OF BEGINNING.

ALSO EXCEPTING THEREFROM ALL MINERALS, OIL, GAS AND OTHER HYDROCARBONS, AND ALL OTHER SUBSTANCES PRODUCED THEREWITH, AND RIGHTS PERTAINING THERETO, IN, ON, UNDER, OR THAT MAY BE PRODUCED FROM SAID LAND, AS RESERVED BY DANTE A. GAIIANIGA AND ALICE M. GAIIANIGA, AS TRUSTEES UNDER THAT CERTAIN DECLARATION OF TRUST, DATED DECEMBER 6, 1971 IN DEED RECORDED MARCH 24, 1976 AS INSTRUMENT NO. 38365 OF OFFICIAL RECORDS OF RIVERSIDE COUNTY, CALIFORNIA.

APN: 729-040-003-3, 729-040-004-4, 729-040-005-5, 729-040-006-6

Containing 195.54 acres more or less.

Tara Sweeney,
Assistant Secretary—Indian Affairs.

[FR Doc. 2020-27222 Filed 12-10-20; 8:45 am]

BILLING CODE 4337-15-P